DEPARTMENT OF HOMELAND SECURITY

Coast Guard

[Docket No. USCG-2024-0885]

National Merchant Marine Personnel Advisory Committee; December 2024 Virtual Meeting

AGENCY: U.S. Coast Guard, Department of Homeland Security.

ACTION: Notice of open Federal advisory committee virtual meeting.

SUMMARY: The National Merchant Marine Personnel Advisory Committee (Committee) will conduct a virtual meeting to discuss issues relating to personnel in the United States Merchant Marine including the training, qualifications, certification, documentation, and fitness of mariners. The virtual meeting will be open to the public. Anyone wishing to attend should contact the individual noted in the FOR FURTHER INFORMATION CONTACT section.

DATES:

Meetings: The National Merchant Marine Personnel Advisory Committee is scheduled to meet on Wednesday, December 11, 2024, from 9 a.m. until 4:30 p.m. Eastern Standard Time Zone (EST). The virtual meeting may adjourn early if the Committee has completed its business.

Comments and supporting documentation: To ensure your comments are received by Committee members before the virtual meeting, submit your written comments no later than November 27, 2024.

ADDRESSES: To join the virtual meeting or to request special accommodations, contact the individual listed in the FOR FURTHER INFORMATION CONTACT section no later than 1 p.m. EST on November 27, 2024, to obtain the needed information. The number of virtual lines is limited and will be available on a first come, first served basis.

The National Merchant Marine Personnel Advisory Committee is committed to ensuring all participants have equal access regardless of disability status. If you require reasonable accommodation due to a disability to fully participate, please email Mrs. Megan Johns Henry at megan.c.johns@uscg.mil or call at (202) 372-1255 as soon as possible.

Instructions: You are free to submit comments at any time, including orally at the virtual meeting as time permits, but if you want Committee members to review your comment before the virtual meeting, please submit your comments no later than November 27, 2024. We are particularly interested in comments on the issues in the “Agenda” section below. We encourage you to submit comments through the Federal Decision Making Portal at https://www.regulations.gov. To do so, go to https://www.regulations.gov, type USCG 2024-0855 in the search box and click “Search”. Next, look for this document in the Search Results column and click on it. Then click on the Comment option. If your material cannot be submitted using https://www.regulations.gov, email the individual in the FOR FURTHER INFORMATION CONTACT section of this document for alternate instructions. You must include the docket number USCG-2024-0855. Comments received will be posted without alteration at http://www.regulations.gov, including any personal information provided. You may wish to review the Privacy and Security Notice found via a link on the homepage of http://www.regulations.gov.

For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mrs. Megan Johns Henry, Alternate Designated Federal Officer of the National Merchant Marine Personnel Advisory Committee, telephone (202) 372-1255, or email megan.c.johns@uscg.mil.

SUPPLEMENTARY INFORMATION: Notice of this virtual meeting is in compliance with the Federal Advisory Committee Act (Pub. L. 117-286, 5 U.S.C. ch. 10). The National Merchant Marine Personnel Advisory Committee is authorized by section 601 of the Frank LoBiondo Act of 2018 and is codified in 46 U.S.C. 15103. The Committee operates under the provisions of the Federal Advisory Committee Act and 46 U.S.C. 15109. The National Merchant Marine Personnel Advisory Committee provides advice and recommendations to the Secretary of Homeland Security through the Commandant of the United States Guard on matters relating to personnel in the United States Merchant Marine including the training, qualifications, certification, documentation, and fitness of mariners.

Agenda: The National Merchant Marine Personnel Advisory Committee will meet on Wednesday, December 11, 2024.

(1) Introduction.

(2) Designated Federal Officer remarks.

(3) Roll call of Committee members.

(4) Adoption of the agenda.

(5) Acceptance of Minutes from Committee Meeting 8 (September 5, 2024).

(6) Introduction of new task.

(7) Recommendations report on TS 21-5, Review of Merchant Mariner Rating and Officer Endorsement Job Task Analyses from NMERPAC Meeting.

(8) Public comment, deliberation, and voting.

(9) U. S. Coast Guard Response on Recommendations to the U.S. Coast Guard from the National Merchant Marine Personnel Advisory Committee.

(10) Public comment, deliberation, and voting.

(11) Public comment period.

(12) Closing remarks.

(13) Adjournment of meeting.

A copy of all meeting documentation will be available at https://homeport.uscg.mil/missions/federal-advisory-committees/national-merchant-marine-personnel-advisory-committee-(nmerpac) by November 27, 2024. Alternatively, you may contact the individual noted in the FOR FURTHER INFORMATION CONTACT section above.

There will also be a public comment period during the meeting on December 11, 2024, at approximately 12:30 p.m. (EST). Public comments will be limited to 3 minutes per speaker and limited to one comment per person. Please note that the public comments period will end following the last call for comments.

Please contact the individual listed in the FOR FURTHER INFORMATION CONTACT section to register as a speaker.

Dated: November 6, 2024.
Jeffrey G. Lantz,
Director of Commercial Regulations and Standards.

[FR Doc. 2024-26211 Filed 11-12-24; 8:45 am]

BILLING CODE 9110-04-P